DEPARTMENT OF COMMERCE

National Oceanic and Atmospheric Administration

RIN 0648-XZ03

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 105th Scientific and Statistical Committee (SSC) and 149th Council meetings to take recommendations and action on fishery management issues in the Western Pacific Region.

DATES: The 105th SSC Meeting will be held on October 6-8 2010 in Honolulu, and the 149th Council meeting will be held on October 11-14, 2010, in Honolulu. For specific times and agendas, see SUPPLEMENTARY INFORMATION.

ADDRESSES: The 105th SSC will be held at the Council Office, 1164 Bishop Street, Suite 1400, Honolulu, HI 96813.

The 149th Council Standing Committee meeting will be held at Council office on October 11, 2010, and the full Council meeting between October 12-14, 2010, at the Laniakea YWCA-Fuller Hall, 1040 Richards Street, Honolulu, HI 96813.

FOR FURTHER INFORMATION CONTACT: Kitty M. Simonds, Executive Director; telephone: (808) 522-8220.

SUPPLEMENTARY INFORMATION: In addition to the agenda items listed here, the SSC and Council will hear recommendations from Council advisory groups. Public comment periods will be provided throughout the agendas. The order in which agenda items are addressed may change. The meetings will run as late as necessary to complete scheduled business.

Schedule and Agenda for 105th SSC Meeting:

Wednesday, October 6, 2010, 8:30 a.m.

1. Introductions

2. Approval of Draft Agenda and Assignment of Rapporteurs

3. Status of the 104th SSC Meeting Recommendations

4. Report from the Pacific Islands Fisheries Science Center Director

5. Program Planning

A. Annual Catch Limits (ACLs) Process

1. Reef Fishery Data Analysis

B. Third National SSC Workshop

C. Public Comment

D. SSC Discussion and Recommendations

6. Insular Fisheries

A. Mariana Islands

1. Bottomfish Scoping Meetings

2. Community Fishery Monitoring

3. Biosampling in the Mariana Islands

B. Hawaii

1. Bottomfish Stock Assessment

2. Bottomfish Essential Fish Habitat

3. Mesophotic Coral Ecosystem Assessments

4. Puwalu Recommendations

C. American Samoa

D. Changes in socio-economic factors related to social resilience during post-tsunami rehabilitation in coastal Thailand

E. Public Comment

F. SSC Discussion and Recommendations

Thursday, October 7, 2010, 8:30 a.m.

7. Pelagic Fisheries

A. Hawaii Longline Bigeye Tuna Management Under a Catch Limit (Action)

B. Proposed Changes to American Samoa Large Pelagic Fishing Vessel (>50 ft) Area Closure (Action)

C. Hawaii Longline Bigeye Tuna Catch Shares Update

D. Mitigation to reduce catches of North Pacific striped marlin in the Hawaii-based tuna fishery

E. American Samoa and Hawaii Longline Quarterly Reports

F. International Fisheries Meetings

1. Western & Central Pacific Fisheries Commission (WCPFC) (Science Committee, Northern Committee,

Technical & Compliance Committee)

2. Inter-American Tropical Tuna Commission (IATTC) (Sharks, Bluefin, Science Committee, IATTC Plenary)

3. Fifth International Fishers Forum

G. Public Comment

H. SSC Discussion and Recommendations

8. Protected Species

A. False Killer Whale Issues

1. Longline Mitigation

2. Take Reduction Plan Proposed Rule

3. Stock Assessment Cruise

4. Insular False Killer Whale Status Review and 12-month Finding

B. Biological Opinion: American Samoa Longline Fishery

C. U.S. National Research Council's Review of Sea Turtle Population Assessment Methods

D. Public Comment

E. SSC Discussion and Recommendations

Friday, October 8, 2010, 8:30 a.m.

9. Other Business

A. 106th SSC Meeting

10. Summary of SSC Recommendations to the Council

149th Council Meeting, Monday, October 11, 2010, Council Office

Executive and Budget Standing Committee, 2 p.m. - 5 p.m.

149th Council Meeting, Tuesday, October 12, 2010, Laniakea YWCA-Fuller Hall, 8:30 a.m. - 5 p.m.

1. Introductions

2. Guest Speaker

3. Approval of Agenda

4. Approval of the 148th Meeting Minutes

5. Executive Director's Report

6. Agency Reports

A. National Marine Fisheries Service

1. Pacific Islands Regional Office

2. Pacific Islands Fisheries Science Center

B. NOAA Regional Counsel

C. State Department

D. U.S. Fish and Wildlife Service

E. Enforcement

1. U.S. Coast Guard

2. NMFS Office for Law Enforcement

3. NOAA General Counsel for Enforcement and Litigation

4. NOAA National and Regional Enforcement Priorities

F. National Marine Sanctuaries Program

G. Public Comment

7. Marianas Archipelago

A. Arongo flaeey

B. Isla Informe

C. Legislative Report

D. Enforcement Issues

E. Monument Activities

F. Report on Bottomfish Scoping Meetings

G. Update on Military Activities

1. Mariana Islands Range Complex

2. Guam Buildup

H. Community Activities and Issues

1. Cumulative Impacts to Guam fisheries and Fishermen

2. Community Monitoring Workshop Report

3. MPA impacts on fishermen drowning

4. Economic Development

a. Fisheries and Aquaculture

I. Education and Outreach Initiatives

J. SSC Recommendations

K. Public Comment

L. Council Discussion and Action

8. American Samoa Archipelago

A. Motu Lipoti

B. Fono Report

C. Enforcement Issues

D. Community Activities and Issues

E. Education and Outreach Initiatives

F. SSC Recommendations

G. Public Comment

H. Council Discussion and Action

9. Public Comment on Non-Agenda Items

Fishers Forum, 6 p.m. - 9 p.m.

Aloha Tower Market Place

Marine Spatial Planning: Fishermen and Ocean User Perspectives

Wednesday, October 13, 2010, 8:30 a.m. - 5 p.m.

10. Hawaii Archipelago

A. Moku Pepa

B. Commercial Marine License Compliance

C. Hawaii Shark Fin Law

D. Action Items

1. Bottomfish Stock Assessment

2. Community Development Program Application

E. Permitting Issues

1. MHI Research Permits

2. NWHI Monument Permits

F. Sustenance Fishing in the Monument Policy

G. Community Activities and Issues

1. Hawaii Bottomfish Restricted Fishing Areas

a. Monitoring

b. State and Federal Enforcement

2. Hawaii Community Fishery Workshop Report

3. Puwalu and Moku Meeting Report

H. SSC Recommendations

I. Public Hearing

J. Council Discussion and Action

11. Program Planning and Research

A. Annual Catch Limits

1. Recommendations on a Process for Establishing Annual Catch Limits (Final Action)

2. Reef Fisheries Data Analysis

B. Fisheries Monitoring and Compliance

1. Vessel Monitoring System Policy

C. Marine Spatial Planning

D. Hawaii, Regional, National & International Education and Outreach

E. SSC Recommendations

F. Public Hearing

G. Council Discussion and Action

12. Protected Species

A. False Killer Whale Issues

1. Take Reduction Plan Proposed Rule

2. Stock Assessment Cruise

3. Insular False Killer Whale Status Review and 12-month Finding

B. Biological Opinion: American Samoa Longline Fishery

C. U.S. National Research Council's Review of Sea Turtle Population Assessment Models

D. SSC Recommendations

E. Public Comment

F. Council Discussion and Action

Thursday, October 14, 2010 8:30 a.m. - 1 p.m.

13. Pelagic & International Fisheries

A. Action Items

1. Hawaii Longline Bigeye Tuna Catch Limit Management (Final)

2. Hawaii Longline Catch Shares (Ongoing)

3. American Samoa Longline Large-Vessel Closed Area Options (Initial)

4. American Samoa Longline Limited Entry Modification (Ongoing)

B. Pacific Tuna Stock Assessments

C. International Fisheries

1. 5th International Fishers Forum (IFF5)

2. Western Central Pacific Fisheries Commission

a. Science Committee

b. Northern Committee

c. Technical & Compliance Committee

3. Inter-American Tropical Tuna Commission

D. SSC Recommendations

E. Public Hearing

F. Council Discussion and Action

14. Administrative Matters

A. Financial Reports

B. Administrative Reports

C. Standard Operating Practices and Procedures (SOPP) Review and Changes

D. Council Family Changes

1. Advisory Panels

E. Meetings and Workshops

F. Other Business

G. Executive and Budget Standing Committee Recommendations

H. Public Comment

I. Council Discussion and Action

15. Other Business

A. Election of Council Officers

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 13, 2010.
Tracey L. Thompson,
Acting Director, Office of Sustainable Fisheries, National Marine Fisheries Service.

[FR Doc. 2010-23091 Filed 9-15-10; 8:45 am]

BILLING CODE 3510-22-S